DEPARTMENT OF JUSTICE

Antitrust Division

Notice Pursuant to the National Cooperative Research and Production Act of 1993—American Brush Manufacturers Association

Notice is hereby given that, on October 12, 2011, pursuant to Section 6(a) of the National Cooperative Research and Production Act of 1993, 15 U.S.C. 4301 et seq. (“the Act”), American Brush Manufacturers Association (“ABMA”) has filed written notifications simultaneously with the Attorney General and the Federal Trade Commission disclosing (1) The name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: American Brush Manufacturers Association, Aurora, IL. The nature and scope of ABMA's standards development activities are: To establish the rules and specifications for safety that apply in the design, use and care of power driven brushing tools, which are specifically defined and covered under the scope of the standard. It includes specifications for shanks, adapters, flanges, collets, chucks and safety guards and the rules for proper storage, handling mounting and use of brushes. Information on the wording of the labels that appear on the brooms, mops or their packaging will help ensure that accurate information on content is presented to the consumer/user.

Patricia A. Brink,
Director of Civil Enforcement, Antitrust Division.

[FR Doc. 2011-29076 Filed 11-14-11; 8:45 am]

BILLING CODE 4410-11-M